NUCLEAR REGULATORY COMMISSION

10 CFR Part 73

[NRC-2014-0118]

RIN 3150-AJ41

Enhanced Security of Special Nuclear Material

AGENCY: Nuclear Regulatory Commission.

ACTION: Regulatory basis.

SUMMARY: The U.S. Nuclear Regulatory Commission (NRC) is making available a regulatory basis document to support a rulemaking potentially amending its regulations concerning the security of special nuclear material. The NRC is not seeking public comments on this document.

DATES: At this time, the NRC is not soliciting public comments on this document. There will be an opportunity for formal public comment on the proposed rule when it is published in the Federal Register.

ADDRESSES: Please refer to Docket ID NRC-2014-0118 when contacting the NRC about the availability of information for this document. You may obtain publicly-available information related to this document by any of the following methods:

• Federal Rulemaking Web site: Go to www.regulations.gov and search for Docket ID NRC-2014-0118. Address questions about NRC dockets to Carol Gallagher; telephone:

(301) 415-3463; email: Carol.Gallagher@nrc.gov. For technical questions, please contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, (301) 415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Timothy Harris, Office of Nuclear Security and Incident Response, U.S. Nuclear Regulatory Commission, Washington, DC 20555-0001; telephone: (301) 287-3594 email: Tim.Harris@nrc.gov.

SUPPLEMENTARY INFORMATION:

Table of Contents

I. Background

II. Publicly-Available Documents

III. Plain Writing

I. Background

On June 18, 2014, the NRC solicited comment from members of the public on a draft regulatory basis addressing the need for a rulemaking to enhance the security of special nuclear material (79 FR 34641). The public comment period ended on October 17, 2014. The NRC received a total of 26 comment submissions from individuals, non-government organizations, and industry. The NRC staff reviewed and considered the comments in finalizing the regulatory basis. The regulatory basis is available in ADAMS under Accession No. ML14321A007 or on the Federal rulemaking Web site, www.regulations.gov, under Docket ID NRC-2014-0118.

II. Publicly-Available Documents

As the NRC continues its ongoing proposed rulemaking effort to amend portions of part 73 of Title 10 of the Code of Federal Regulations (10 CFR) to enhance security of special nuclear material, the NRC is making documents publicly available on the Federal rulemaking Web site, www.regulations.gov, under Docket ID NRC-2014-0118. By making these documents publicly available, the NRC seeks to inform stakeholders of the current status of the NRC's rulemaking development activities and to provide preparatory material for future public meetings.

The NRC may post additional materials relevant to this rulemaking at www.regulations.gov, under Docket ID NRC-2014-0118. Please take the following actions if you wish to receive alerts when changes or additions occur in a docket folder: (1) Navigate to the docket folder (NRC-2014-0118); (2) click the “Email Alert” link; and (3) enter your email address and select how frequently you would like to receive emails (daily, weekly, or monthly).

III. Plain Writing

The Plain Writing Act of 2010, (Pub. L. 111-274) requires Federal agencies to write documents in a clear, concise, well-organized manner that also follows other best practices appropriate to the subject or field and the intended audience. Although regulations are exempt under the Act, the NRC is applying the same principles to its rulemaking documents. Therefore, the NRC has written this document to be consistent with the Plain Writing Act.

Dated at Rockville, Maryland, this 9th day of April 2015.
For the Nuclear Regulatory Commission.
Laura A. Dudes,
Director, Division of Material Safety, State, Tribal and Rulemaking Programs, Office of Nuclear Material Safety and Safeguards.

[FR Doc. 2015-09403 Filed 4-21-15; 8:45 am]

BILLING CODE 7590-01-P